DEPARTMENT OF COMMERCE

National Oceanic and Atmospheric Administration

RIN 0648-XC327

Mid-Atlantic Fishery Management Council (MAFMC); Public Meeting

AGENCY: National Marine Fisheries Service (NMFS), National Oceanic and Atmospheric Administration (NOAA), Commerce.

ACTION: Notice of a public meeting.

SUMMARY: The Joint Mid-Atlantic Fishery Management Council's and the Atlantic States Marine Fisheries Commission's Summer Flounder, Scup, and Black Sea Bass Advisory Panel will hold a public meeting.

DATES: The meeting will be held on Tuesday, November 20, 2012, from 9 a.m. to 12 noon.

ADDRESSES: The meeting will be held via webinar with a telephone-only connection option. Details on webinar registration and the telephone-only connection details are available at: http://www.mafmc.org.

ADDRESSES: Council address: Mid-Atlantic Fishery Management Council, 800 North State Street, Suite 201, Dover, DE 19901; telephone: (302) 674-2331.

FOR FURTHER INFORMATION CONTACT: Christopher M. Moore, Ph.D., Executive Director, Mid-Atlantic Fishery Management Council, 800 North State Street, Suite 201, Dover, DE 19901; telephone: (302) 674-2331, extension 255.

SUPPLEMENTARY INFORMATION: The Summer Flounder, Scup, and Black Sea Bass Advisory Panel will discuss potential options for the designation of Delaware artificial reef sites as Special Management Zones (SMZs) under provisions of Amendment 9 to the Summer Flounder, Scup and Black Sea Bass FMP. Based on input from its industry advisory panel, the Council will be developing SMZ designation alternatives at its December 2012 meeting to take out to public hearings in early 2013.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: November 1, 2012.
Tracey L. Thompson,
Acting Deputy Director, Office of Sustainable Fisheries, National Marine Fisheries Service.

[FR Doc. 2012-27022 Filed 11-5-12; 8:45 am]

BILLING CODE 3510-22-P